SURFACE TRANSPORTATION BOARD

[Docket No. EP 290 (Sub-No. 4)]

Railroad Cost Recovery Procedures—Productivity Adjustment

AGENCY: Surface Transportation Board.

ACTION: Presentation of the Board's calculation for the change in railroad productivity for the 2016-2020 averaging period.

SUMMARY: In a decision served on February 3, 2022, the Board proposed to adopt 1.025 (2.5% per year) as the measure of average (geometric mean) change in railroad productivity for the 2016-2020 (five-year) period. The Board's February 3, 2022 decision stated that comments may be filed addressing any perceived data and computational errors in the Board's calculation. The decision also stated that, unless a further order is issued postponing the effective date, the decision will take effect on March 1, 2022.

DATES: Comments are due by February 24, 2022.

ADDRESSES: Comments may be e-filed on the Board's website at www.stb.gov. Comments must be served on all parties appearing on the service list.

FOR FURTHER INFORMATION CONTACT: Pedro Ramirez at (202) 245-0333. Assistance for the hearing impaired is available through the Federal Relay Service at (800) 877-8339.

SUPPLEMENTARY INFORMATION: Additional information is contained in the Board's decision, which is available at www.stb.gov.

Decided: February 2, 2022.
By the Board, Board Members Fuchs, Hedlund, Oberman, Primus, and Schultz.
Kenyatta Clay,
Clearance Clerk.

[FR Doc. 2022-02508 Filed 2-4-22; 8:45 am]

BILLING CODE 4915-01-P